COMMODITY FUTURES TRADING COMMISSION

Membership of the Commission's Performance Review Board

AGENCY: Commodity Futures Trading Commission.

ACTION: Membership change of Performance Review Board.

SUMMARY: In accordance with the Office of Personnel Management guidance under the Civil Service Reform Act of 1978, notice is given that the following employees will serve as members of the Commission's Performance Review Board.

Members: Donald L. Tendick, Acting Executive Director, Chairman; R. Scott Parsons, Acting Chief of Staff; Phyllis J. Cela, Acting Director, Division of Enforcement, Andrea M. Corcoran, Director, Office of International Affairs; John C. Lawton, Acting Director, Division of Trading and Markets; David R. Merrill, Acting General Counsel, Office of General Counsel; Richard A. Shilts, Acting Director, Division of Economic Analysis.

DATES: This action will be effective on August 31, 2001.

ADDRESS: Commodity Futures Trading Commission, Office of Human Resources, Three Lafayette Centre, Suite 4100, Washington, DC 20581.

FOR FURTHER INFORMATION CONTACT: Marsha Scialdo, Director, Office of Human Resources, Commodity Futures Trading Commission, Three Lafayette Centre, Suite 4100, Washington, DC 20581, (202) 418-5003.

SUPPLEMENTARY INFORMATION: This action which changes the membership of the Board supersedes the previously published Federal Register Notice, August 10, 2000.

Issued in Washington, DC on August 31, 2001.
Jean A. Webb,
Secretary of the Commission.

[FR Doc. 01-22534 Filed 9-6-01; 8:45 am]

BILLING CODE 6351-01-M